DEPARTMENT OF COMMERCE

National Oceanic and Atmospheric Administration

[RTID 0648-XF490]

Pacific Fishery Management Council; Public Meeting

AGENCY: National Marine Fisheries Service (NMFS), National Oceanic and Atmospheric Administration (NOAA), Commerce.

ACTION: Notice of public meeting.

SUMMARY: The Pacific Fishery Management Council (Pacific Council) will convene a Methodology Review Panel meeting to review the products of the Integrated West Coast Pelagics Survey. The meeting will be co-hosted by the NMFS Southwest Fisheries Science Center. The meeting is open to the public and being conducted in person with a web broadcast that provides the opportunity for remote listening and public comment.

DATES: The meeting will be held Tuesday, February 24 through Thursday, February 26, 2026, from 8:30 a.m. until 5 p.m. (Pacific Standard Time) or until business for the day has been completed.

ADDRESSES: The meeting will be held at the NMFS Southwest Fisheries Science Center, Pacific Room, 8901 La Jolla Shores Drive, La Jolla, CA 92037, Tel: 858-546-7000.

This meeting is being conducted in person with a web broadcast that provides the opportunity for remote public comment. Specific meeting information, materials, visitor protocols, and instructions for how to connect to the meeting remotely will be provided in the meeting announcement on the Pacific Council's website (see www.pcouncil.org).

Council address: Pacific Fishery Management Council, 7700 NE Ambassador Place, Suite 101, Portland, OR 97220-1384.

FOR FURTHER INFORMATION CONTACT: Katrina Bernaus, Staff Officer, Pacific Council; telephone: (503) 820-2420, email: katrina.bernaus@pcouncil.org; Dr. André Punt, University of Washington; telephone (206) 221-6319; or Dr. Annie Yau, NMFS Southwest Fisheries Science Center; telephone: (858) 546-7083.

SUPPLEMENTARY INFORMATION: The purpose of a methodology review is to provide a peer review process for review and evaluation of new stock survey or data methodologies developed for potential inclusion in Pacific Council products. No management actions will be decided by the Methodology Review Panel (Panel). The Panel participants' role will be the development of recommendations and reports for consideration by the Pacific Council at its April 2026 meeting in Portland, Oregon. Upon approval by the Scientific and Statistical Committee, the methodology can then be included in stock assessments or other Pacific Council products. This meeting will be a formal review of the net change in the acoustic-trawl survey (now the Integrated West Coast Pelagics Survey) for use in future coastal pelagic species stock assessments. The Panel will provide recommendations regarding whether the Integrated Survey's survey data outputs can be utilized in future coastal pelagic species stock assessments, and if not, what additional research is needed for this to be possible. The Panel will also recommend research topics organized by priority and anticipated time frame for completion for NMFS and Pacific Council consideration.

The Panel will consist of members of the Pacific Council's Scientific and Statistical Committee's Coastal Pelagic Species Subcommittee, at least one independent expert from the Center for Independent Experts, and other invited expert reviewers. Representatives of the Pacific Council's Coastal Pelagic Species Management Team and the Coastal Pelagic Species Advisory Subpanel will also participate in the review as advisers.

Although non-emergency issues not contained in the meeting agendas may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Visitors to the NMFS Southwest Fisheries Science Center will need to obtain a visitor badge. Visitors are also required to present a REAL ID-compliant form of identification. For instance,

—State-issued identification that is REAL ID-compliant

—Passport

—Enhanced Driver's License

—Federal employee, military, or veteran identification card

Visitor protocols will be provided in the meeting announcement on the Pacific Council's website (see www.pcouncil.org).

Special Accommodations

These meetings are physically accessible to people with disabilities. Requests for sign language interpretation or other auxiliary aids should be directed to Mr. Kris Kleinschmidt (kris.kleinschmidt@pcouncil.org; 503-820-2412) at least 10 days prior to the meeting date.

(Authority: 16 U.S.C. 1801 et seq.)

Dated: January 15, 2026.
Rey Israel Marquez,
Acting Deputy Director, Office of Sustainable Fisheries, National Marine Fisheries Service.

[FR Doc. 2026-00957 Filed 1-16-26; 8:45 am]

BILLING CODE 3510-22-P